DEPARTMENT OF JUSTICE

[OMB Number 1121-NEW]

Agency Information Collection Activities; Proposed Collection; Comment Request: Equal Employment Opportunity Plan Certification of Compliance and Short Form

ACTION: 60-Day Notice.

The U.S. Department of Justice, Office of Justice Programs, Office for Civil Rights has submitted the following information collection request to the Office of Management and Budget (OMB) for review and approval in accordance with the Paperwork Reduction Act of 1995. The proposed information collection is published to obtain comments from the public and affected agencies. Comments are encouraged and will be accepted for “sixty days” until December 24, 2012. This process is conducted in accordance with 5 CFR 1320.10.

If you have comments especially on the estimated public burden or associated response time, suggestions, or need a copy of the proposed information collection instrument with instructions or additional information, please contact George Mazza, (202) 305-3146, Office for Civil Rights, Office of Justice Programs, U.S. Department of Justice, 810 Seventh Street NW., Washington, DC 20531.

Written comments and suggestions from the public and affected agencies concerning the proposed collection of information are encouraged. Your comments should address one or more of the following four points:

—Evaluate whether the proposed collection of information is necessary for the proper performance of the function of the agency, including whether the information will have practical utility;

—Evaluate the accuracy of the agency's estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology; e.g., permitting electronic submission of responses.

Overview of This Information

(1) Type of Information Collection: New collection.

(2) Title of the Form/Collection: Certification Form: Compliance with the Equal Employment Opportunity Plan (EEOP) Requirements and EEOP Short Form.

(3) Agency form number, if any, and the applicable component of the U.S. Department of Justice sponsoring the collection: Office for Civil Rights, Office of Justice Programs, United States Department of Justice.

(4) Affected public who will be asked or required to respond, as well as a brief abstract: Primary: State, and local, government instrumentalities. Other: For-profit Institutions. Federal regulation, 28 CFR part 42, subpt. E authorizes the Department of Justice to collect information regarding employment practices from State or Local units of government; agencies of State and Local governments; and Private entities, institutions or organizations to which the Office of Justice Programs, the Office on Community Oriented Policing Services, or the Office on Violence Against Women extend Federal financial assistance.

(5) An estimate of the total number of respondents and the amount of time estimated for an average respondent to respond/reply: There are approximately 17,865 respondents. It will take all these respondents one quarter hour to complete and submit the cerification to the Office of Justice Programs. It is estimated that it will take 3,286 respondents receiving a grant of $500,000 or more four hours to complete the Equal Employment Opportunity Plan Short Form and submit it to the Office of Justice Programs. The estimated time to complete and submit the Certification is one quarter hour.

(6) An estimate of the total public burden (in hours) associated with the collection: For the EEOP Short Form and the Certification form it will take a total estimated 17,610 burden hours.

If additional information is required, contact Jerri Murray, Department Clearance Officer, United States Department of Justice, Justice Management Division, Policy and Planning Staff, Two Constitution Square, 145 N Street NE., Room 2E-508, Washington, DC 20530.

Dated: October 22, 2012.
Jerri Murray,
Department Clearance Officer for PRA, United States Department of Justice.

[FR Doc. 2012-26278 Filed 10-24-12; 8:45 am]

BILLING CODE 4410-18-P